DEPARTMENT OF LABOR

Vacancy Posting: Chair of the Administrative Review Board

Summary of Duties: The Administrative Review Board (ARB) Chair directs other ARB Members and administrative and professional staff in the performance of the ARB's mission. The Chair directs the management of the ARB's administrative, clerical, and professional staff and makes final decisions for the ARB on management matters, such as budget, personnel, space, and other services. The Chair exercises completely independent judgment in discharging his/her duties and responsibilities as required by law and any applicable regulations. In addition, the Chair and the ARB Members establish general policies for the ARB's operations and promulgation of Rules of Practice and Procedure for all persons appearing before the ARB in the performance of its appellate review authority.

Appointment Type: Excepted—The term of appointment is for two years or less and may be extended.

Qualifications: The applicant should be well versed in whistleblower, immigration, child labor, employment discrimination, and federal construction/services contracts. This includes the processes, adjudication of claims, and the appeals process, as well as having the ability to interpret regulations and come to a consensus to determine an overall appeals determination with Members of the Board. Prior experience directing a team of professional, administrative, and clerical staff in management matters is required.

To Be Considered: Applicants must provide a detailed resume containing a demonstrated ability to perform as Chair of the Board.

Closing Date: Resumes must be submitted (postmarked, if sending by mail; submitted electronically; or received, if hand-delivered) by 11:59 p.m. EDT on September 15, 2018. Resumes must be submitted to: sylvia.john@dol.gov or mail to: U.S. Department of Labor, 200 Constitution Avenue NW, ATTN: Office of Executive Resources, Room N2495, Washington, DC 20210, phone: 774-365-6851. This is not a toll-free number.

Dated. August 6, 2018.
Bryan Slater,
Assistant Secretary for Administration & Management.

[FR Doc. 2018-17375 Filed 8-10-18; 8:45 am]

BILLING CODE 4510-HW-P